DEPARTMENT OF HEALTH AND HUMAN SERVICES

National Institutes of Health

Proposed Collection; 60-Day Comment Request; NIH COVID-19 Vaccination Status Form Extension

AGENCY: National Institutes of Health, HHS.

ACTION: Notice.

SUMMARY: In compliance with the requirement of the Paperwork Reduction Act of 1995 to provide opportunity for public comment on proposed data collection projects, the National Institutes of Health (NIH), Office of Research Services (ORS), Division of Occupational Health and Safety (DOHS) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Jessica McCormick-Ell, Ph.D., SM (NRCM), CBSP, RBP, NIH/ORS/SR/DOHS, Bldg. 13/3W80, Bethesda, MD 20892-5760 or call non-toll-free number (301) 496-0590 or Email your request, including your address to: jessica.mccormick-ell@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: NIH COVID-19 Vaccination Status Form EXTENSION, 0925-0771, exp., 3/31/2022, Office of Research Services (ORS), National Institutes of Health (NIH).

Need and Use of Information Collection: The purpose of the NIH COVID-19 Vaccination Status Form is to ensure the safety of the Federal workplace consistent with Executive Order 14042 Ensuring Adequate COVID Safety Protocols for Federal Contractors, Executive Order 14043 Requiring Coronavirus Disease 2019 Vaccination for Federal Employees, the COVID-19 Workplace Safety: Agency Model Safety Principles established by the Safer Federal Workforce Task Force, and guidance from the Centers for Disease Control and Prevention (CDC) and the Occupational Safety and Health Administration (OSHA). The proposed information collection will be used to ensure compliance with vaccination requirements in the authorities above, generate the list of persons required to be tested on a routine basis, and will provide important information regarding safety frameworks, guidance, and procedures.

OMB approval is requested for 3 years. There are no costs to respondents other than their time. The total estimated annualized burden hours are 2,583.

Estimated Annualized Burden Hours
Type of respondent | Number of respondents | Number of responses per respondent | Average time per response (in hours) | Total annual burden hour
Certified nurse coaches | 31,000 | 1 | 5/60 | 2,583
Total |  | 31,000 |  | 2,583

Dated: November 16, 2021.
Lawrence A. Tabak,
Principal Deputy Director, National Institutes of Health.

[FR Doc. 2021-25412 Filed 11-19-21; 8:45 am]

BILLING CODE 4140-01-P